DEPARTMENT OF HOMELAND SECURITY

Coast Guard

33 CFR Part 117

[Docket No. USCG-2009-0162]

Drawbridge Operation Regulation; Houma Navigation Canal, Mile 36.0, at Houma, Terrebonne Parish, LA

AGENCY: Coast Guard, DHS.

ACTION: Notice of temporary deviation from regulations.

SUMMARY: The Commander, Eighth Coast Guard District, has issued a temporary deviation from the regulation governing the operation of the SR 661 Swing Bridge across the Houma Navigation Canal, mile 36.0, in Houma, Terrebonne Parish, Louisiana. The deviation is necessary to replace the wedge assemblies on the bridge. This deviation allows the bridge to remain closed during daytime hours with three approved openings and remain in the open-to-navigation position at night for the passage of vessels.

DATES: This deviation is effective from 6 a.m. on April 20, 2009 through 8 p.m. on April 30, 2009.

ADDRESSES: Documents indicated in this preamble as being available in the docket are part of docket USCG-2009-0162 and are available online at http://www.regulations.gov. They are also available for inspection or copying at two locations: The Docket Management Facility (M-30), U.S. Department of Transportation, West Building Ground Floor, Room W12-140, 1200 New Jersey Avenue, SE., Washington, DC 20590, between 9 a.m. and 5 p.m., Monday through Friday, except Federal holidays, and the Eighth Coast Guard District, Bridge Administration Branch, Hale Boggs Federal Building, Room 1313, 500 Poydras Street, New Orleans, Louisiana 70130-3310 between 7 a.m. and 3 p.m., Monday through Friday, except Federal holidays.

FOR FURTHER INFORMATION CONTACT: David Frank, Bridge Administration Branch, telephone (504) 671-2128.

SUPPLEMENTARY INFORMATION: Louisiana Department of Transportation and Development has requested a temporary deviation from the operating schedule of the State Route 661 Swing Bridge across the Houma Navigation Canal, mile 36.0, in Houma, Terrebonne Parish, Louisiana. The closure is necessary to allow for repairs to the bridge. From Monday, April 20, 2009, until Thursday, April 30, 2009, the contractor plans to work from 6 a.m. until 8 p.m. daily with three scheduled openings for the passage of vessels. From 8 p.m. until 6 a.m. daily, the bridge will remain in the open to navigation position for the passage of vessels.

The vertical clearance of the swing bridge in the closed-to-navigation position is 1.0 feet and unlimited in the open-to-navigation position. If for any reason, the contractor is not working during this period, the bridge will be returned to normal operation and must open on signal. If the maintenance work is completed prior to April 30, 2009, the bridge will be returned to normal operation. The bridge owner will keep the Coast Guard informed as to any change in the schedule so that proper notices to mariners may be issued informing the public of changes to the operation of the bridge.

Presently, the bridge operates in accordance with 33 CFR 117.455 which requires the draw of the bridge across the Houma Navigation Canal at S661, mile 36.0 at Houma, to open on signal, except that the draw need not be opened for the passage of vessels Monday through Friday except holidays from 7 a.m. to 8:30 a.m., from 11:45 a.m. to 12:15 p.m., from 12:45 p.m. to 1:15 p.m., and 4:30 p.m. to 6 p.m. This deviation will allow the bridge to remain in the closed-to-navigation position from 6 a.m. until 8 p.m. daily; except that, the draw will open on signal for the passage of vessels at 8 a.m., noon, and 4 p.m. From 8 p.m. until 6 a.m., the bridge will remain in the open-to-navigation position for the passage of vessel. The temporary deviation will begin on Monday, April 20, 2009 and continue through 8 p.m. on Thursday, April 30, 2009. Navigation on the waterway consists of tugs with tows, fishing vessels and recreational craft. Due to prior experience and coordination with waterway users it has been determined that this closure will not have a significant effect on these vessels.

In accordance with 33 CFR 117.35(e), the drawbridge must return to its regular operating schedule immediately at the end of the designated time period. This deviation from the operating regulations is authorized under 33 CFR 117.35.

Dated: March 16, 2009.
David M. Frank,
Bridge Administrator.

[FR Doc. E9-7528 Filed 4-2-09; 8:45 am]

BILLING CODE 4910-15-P